DEPARTMENT OF ENERGY

Federal Energy Regulatory Commission

Notice of Effectiveness of Exempt Wholesale Generator or Foreign Utility Company Status

| Docket Nos.
Lakeland Solar Energy LLC | EG14-13-000
New AERG, LLC | EG14-14-000
Ameren Energy Generating Company | EG14-15-000
Société de cogénération de St-Félicien, Société en commandite | FC14-10-000

Take notice that during the month of January 2014, the status of the above-captioned entities as Exempt Wholesale Generators or Foreign Utility Companies became effective by operation of the Commission's regulations. 18 CFR 366.7(a).

Dated: February 20, 2014.
Kimberly D. Bose,
Secretary.

[FR Doc. 2014-04280 Filed 2-26-14; 8:45 am]

BILLING CODE 6717-01-P